DEPARTMENT OF VETERANS AFFAIRS

[OMB Control No. 2900-0791]

Agency Information Collection (Notice of Disagreement) Activity Under OMB Review

AGENCY: Veterans Benefits Administration, Department of Veterans Affairs.

ACTION: Notice.

SUMMARY: In compliance with the Paperwork Reduction Act (PRA) of 1995 (44 U.S.C. 3501-21), this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before September 2, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0791” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0791” in any correspondence.

SUPPLEMENTARY INFORMATION: Title: Notice of Disagreement (VA Form 21-0958).

OMB Control Number: 2900-0791.

Type of Review: Revision of a currently approved collection.

Abstract: VA Form 21-0958, will be used by the Veteran to initiate an appeal by indicating disagreement with a decision issued by a Regional Office (RO). VA Form 21-0958, is the first step in the appeal process. The respondent may or may not continue with an appeal to the Board of Veterans Appeals (BVA). If the Veteran opts to continue to BVA for an appeal, this form will be included in the claim folder as evidence. VA will provide VA Form 21-0958 to claimants with the notification letter of the decision in paper form, via hyperlink to VA's Web site, or through its electronic claims processing system. The use of VA Form 21-0958 is mandatory when claimants want to initiate an appeal from a decision on disability compensation claims dated on or after March 24, 2015.

An agency may not conduct or sponsor, and a person is not required to respond to a collection of information unless it displays a currently valid OMB control number. The Federal Register Notice with a 60-day comment period soliciting comments on this collection of information was published at 80 FR 83 on April 30, 2015.

Affected Public: Individuals or Households.

Estimated Annual Burden: 72,000.

Estimated Average Burden per Respondent: 30 minutes.

Frequency of Response: One time.

Estimated Number of Respondents: 144,000.

By direction of the Secretary.
Kathleen M. Manwell,
Program Analyst, VA Privacy Service, Office of Privacy and Records Management, Department of Veterans Affairs.

[FR Doc. 2015-18929 Filed 7-31-15; 8:45 am]

BILLING CODE 8320-01-P